SECURITIES AND EXCHANGE COMMISSION

17 CFR Part 200

[Release No. 33-9273A, 34-65686A, 39-2480A, IA-3310A and IC-29855A]

Rescission of Outdated Rules and Forms, and Amendments To Correct References

AGENCY: Securities and Exchange Commission.

ACTION: Technical amendment.

SUMMARY: The Securities and Exchange Commission (“SEC” or “Commission”) is making technical amendments to update control numbers assigned to information collection requirements of the Commission by the Office of Management and Budget pursuant to the Paperwork Reduction Act of 1980.

DATES: Effective date: February 9, 2015.

FOR FURTHER INFORMATION CONTACT: Daniel K. Chang, Senior Counsel, at (202) 551-6792, Office of Regulatory Policy, Division of Investment Management, U.S. Securities and Exchange Commission, 100 F Street NE., Washington, DC 20549-8549.

SUPPLEMENTARY INFORMATION: The Commission published a final rule at 76 FR 71872, on November 21, 2011, which rescinded rules and forms adopted under the Public Utility Holding Company Act (“PUHCA”),¹ revised other rules and forms to correct outdated references to PUHCA, corrected outdated references due to enactment of the Dodd-Frank Wall Street Reform and Consumer Protection Act of 2010 (“the Dodd-Frank Act”), and made other ministerial corrections.² Congress repealed PUHCA effective 2006, and the Dodd-Frank Act amended various provisions of the federal securities laws and removed references to PUHCA from those laws.

¹ 15 U.S.C. 79 (repealed effective 2006).

² Public Law 111-203, 124 Stat. 1376 (2010).

The final rule contained a typographical error that prevented an amendment to the Code of Federal Regulations.³ This technical amendment is being published so that the table in 17 CFR 200.800(b) can be updated to reflect that amendment.

³ The final rule incorrectly referenced 17 CFR 200.80(b) of Subpart M, rather than 17 CFR 200.800(b) of Subpart N. As a result of the incorrect reference, the table in 17 CFR 200.800(b) of Subpart N was not amended.

List of Subjects in 17 CFR Part 200

Administrative practice and procedure, Authority delegations (Government agencies), Classified information, Conflicts of interest, Government employees, Organization and functions (Government agencies).

Text of the Amendments

For the reasons set out in the preamble, Title 17, Chapter II of the Code of Federal Regulations is amended as follows:

PART 200—ORGANIZATION; CONDUCT AND ETHICS; AND INFORMATION AND REQUESTS

Subpart N—Commission Information Collection Requirements Under the Paperwork Reduction Act: OMB Control Numbers

1. The authority citation for part 200, subpart N, continues to read as follows:

Authority: 44 U.S.C. 3506; 44 U.S.C. 3507.

§ 200.800 [Amended]

2. In § 200.800(b), in the table, remove the following entries: Form ET, wherever it appears; Rule 1(a); Rule 1(b); Rule 1(c); Rule 2; Rule 3; Rule 7; Rule 7(d); Rule 20(b); Rule 20(c); Rule 20(d); Rule 23; Rule 24; Rule 26; Rule 29; Rule 44; Rule 45; Rule 47(b); Rule 52; Form 53; Rule 54; Rule 57(a); Rule 57(b); Rule 58; Rule 62; Rule 71(a); Rule 72; Rule 83; Rule 87; Rule 88; Rule 93; Rule 94; Rule 95; Rule 100(a); Uniform System of Accounts for Mutual Service Companies and Subsidiary Service Companies, Public Utility Holding Company Act of 1935; Preservation and Destruction of Records of Registered Public Utility Holding Companies and of Mutual and Subsidiary Service Companies; Form U5A; Form U5B; Form U5S; Form U-1; Form U-13-1; Form U-6B-2; Form U-57; Form U-9C-3; Form U-12(I)-A; Form U-12(I)-B; Form U-13E-1; Form U-R-1; Form U-13-60; Form U-3A-2; Form U-3A3-1; Form U-7D; Form U-33-S; Form ID, 259.602, 3235-0328; and Form SE., 259.603, 3235-0327.

Dated: February 3, 2015.
Brent J. Fields,
Secretary.

[FR Doc. 2015-02465 Filed 2-6-15; 8:45 am]

BILLING CODE 8011-01-P